DEPARTMENT OF TRANSPORTATION

National Highway Traffic Safety Administration

[Docket No. NHTSA-2016-0069]

Request for Information: Nationally Uniform 911 Data System

AGENCY: National Highway Traffic Safety Administration (NHTSA), U.S. Department of Transportation (DOT).

ACTION: Notice; request for information.

SUMMARY: The development of a nationally uniform 911 data system, containing uniform data elements for all Computer Aided Dispatch (CAD) data, data associated with the operation of local and State 911 systems, and Extensible Markup Language (XML) schema (or technical equivalent) that would enable the collection, analysis and sharing of standardized administrative data, operational data, cost data and all Computer Aided Dispatch (CAD) data received, collected, processed, and transmitted during 911 calls; that would be developed and made available to all 911 Public Safety Answering Points (PSAPs) and 911 Authorities at the state and local levels. This nationally uniform 911 data system, once developed, would provide essential information to assist strategic planning, governance decisions, and improvements to the 911 system and its operation at all levels of government. These data would also be useful to private sector companies providing support services to local and state 911 agencies.

DATES: It is requested that comments on this announcement be submitted by September 28, 2016.

ADDRESSES: You may submit comments [identified by Docket No. NHTSA-2016-0069] through one of the following methods:

• Federal eRulemaking Portal: http://www.regulations.gov. Follow the online instructions for submitting comments.

• Mail or Hand Delivery: Docket Management Facility, U.S. Department of Transportation, 1200 New Jersey Avenue SE., West Building, Room W12-140, Washington, DC 20590, between9 a.m. and 5 p.m., Monday through Friday, except on Federal holidays.

FOR FURTHER INFORMATION CONTACT: Laurie Flaherty, National Highway Traffic Safety Administration, Office of Emergency Medical Services, (202) 366-2705, LaurieFlaherty@dot.gov, located at the United States Department of Transportation; 1200 New Jersey Avenue SE., NPD-400, Room W44-322, Washington, DC 20590. Office hours are from 9 a.m. to 5 p.m., Monday through Friday, except Federal holidays.

SUPPLEMENTARY INFORMATION: DOT/NHTSA, on behalf of the National 911 Program, is seeking comments from all sources (public, private, governmental, academic, professional, associations, public interest groups, and other interested parties) on the idea of establishing a nationally uniform data system, to document PSAP 911 call data and the data related to the operation of 911 systems at all levels of government within the 911 community. A nationally uniform 911 data system was identified as a need by the Federal Communication Commission's (FCC's) Task Force on Optimal PSAP Architecture (TFOPA), in its final report, released January 29, 2016: “A National system enabling the collection and analysis of standardized administrative data, operational data, cost data and CAD data should be developed and made available to PSAPS and 911 Authorities, to provide essential information to substantiate planning decisions and improvements to assist in the migration towards NG911.” Models for a nationally uniform data system exist in other disciplines, for example, the National Fire Operations Reporting System (N-FORS), http://911perform.org and the National EMS Information System (NEMSIS), http://nemsis.org. There are elements of these existing systems, in terms of their content and the processes used for their development, implementation, and operation, that could be adopted or adapted for use by the 911 community, in developing an analogous data system.

The purpose of this notice is to solicit comments and ideas on all aspects of the development, implementation and operation of a nationally uniform 911 data system from the broad 911 stakeholder community, including CAD vendors, CAD interface developers, PSAP managers, local and State 911 authorities and agencies, national professional 911 associations, other Federal agencies, academia, public interest groups, and any other interested parties; and to request responses to specific questions provided below. This is neither a request for proposals nor an invitation for bids.

Background

In January 2016, in partnership with the PSAP community, national professional 911 associations, all levels of government, and the private sector, the Task Force on Optimal PSAP Architecture (TFOPA) delivered its final report to the FCC. This document contains a collaborative vision for the future of optimal PSAPs and 911 systems in the United States. The document includes a section (5.9.2) entitled, “Findings and Considerations” recommending that, “a National system enabling the collection and analysis of standardized administrative data, operational data, cost data and CAD data should be developed and made available to PSAPS and 911 Authorities, to provide essential information to substantiate planning decisions and improvements to assist in the migration towards NG911.”

This RFI request directly relates to this recommendation by seeking comment on specific potential components of a nationally uniform 911 data system that would be implemented and operated to bridge this identified gap, and the process that would be used to develop, implement and operate this data system.

Responses to the following questions are requested to help plan the development and creation of a nationally uniform 911 data system that would enable the collection and analysis of standardized PSAP data and operational 911 system data. Please provide references as appropriate.

1. What significant changes have occurred in 911 and PSAP related data systems at the national, State and local levels during the last ten years?

2. As a 911 stakeholder, how might the implementation of a nationally uniform 911 data system be most useful to you (i.e. planning, funding justification, strategic planning etc.)?

3. What are the most critical issues facing current use and future interconnection of PSAP CAD systems that could be addressed in the development of the nationally uniform 911 data system? Please be as specific as possible.

4. What CAD and/or PSAP and/or 911 system data do you presently collect and what additional data would be beneficial to assist with staffing, budgeting, testing, contract compliance, performance metrics, planning, governance, or quality improvement activities?

5. What kind of data elements would you consider as essential data related to information handled by telecommunicators and by CAD systems, in receiving and processing 911 calls, and transmitting information to emergency responders? Please be as specific as possible in listing examples.

6. What kind of data elements would you consider as essential data related to the administration and operation of a PSAP? Please be as specific as possible in listing examples.

7. What kind of data elements would you consider as essential data related to the administration and operation of a local/state 911 system? Please be as specific as possible in listing examples.

8. How could a nationally uniform 911 data system enhance collaboration among CAD/Records Management Systems (RMS), 911 authorities, the first responder community, and others?

9. How could the proposed data system promote community preparedness and resilience?

10. How could this proposed data system contribute to improved coordination at the local, regional, state and national levels?

11. What are your suggestions for the process that should be used in developing, implementing and/or operating a nationally uniform 911 data collection system? Please be as specific as possible.

12. What specific agencies/organizations/entities are essential to involve, as part of a collaborative group that develops, implements, and/or operates this data system?

13. In your opinion, what are the challenges that would have to be overcome, in implementing a nationally uniform 911 data system?

14. In your opinion, how would the existence of a nationally uniform 911 data system be beneficial in implementing Next Generation 911? Please be as specific as possible in providing examples.

15. Do you have any additional comments regarding this subject?

Issued on: June 23, 2016.
Jeffrey P. Michael,
Associate Administrator, Research and Program Development.

[FR Doc. 2016-15368 Filed 6-29-16; 8:45 am]

BILLING CODE 4910-59-P